DEPARTMENT OF ENERGY

Federal Energy Regulatory Commission

[Project No. 2232-455]

Notice of Application for Non-Project Use of Project Lands and Soliciting Comments, Motions To Intervene, and Protests

June 5, 2003.

Take notice that the following application has been filed with the Commission and is available for public inspection:

a. Application Type: Non-Project Use of Project Lands.

b. Project No: 2232-455.

c. Date Filed: April 21, 2003.

d. Applicant: Duke Power Company.

e. Name of Project: Catawba-Wateree.

f. Location: The project is located in Alexander, Burke, Caldwell, Catawba, Gaston, Iredell, Lincoln, McDowell and Mecklenburg Counties, North Carolina and Chester, Fairfield, Kershaw, Lancaster, and York Counties, South Carolina. This project does not occupy any federal or tribal lands.

g. Filed Pursuant to: Federal Power Act, 16 U.S.C. 791(a) 825(r) and 799 and 801.

h. Applicant Contact: Mr. Joe Hall, Lake Management Representative, Duke Power, a division of Duke Energy Corp., P.O. Box 1006, Charlotte, North Carolina 28201-1006, (704) 382-8576.

i. FERC Contacts: Any questions on this notice should be addressed to Mrs. Jean Potvin at (202) 502-8928, or e-mail address: jean.potvin@ferc.gov.

j. Deadline for filing comments and or motions: July 7, 2003.

All documents (original and eight copies) should be filed with: Ms. Magalie R. Salas, Secretary, Federal Energy Regulatory Commission, 888 First Street, NE., Washington, DC 20426. Please include the project number (P-2232-455) on any comments or motions filed. Comments, protests, and interventions may be filed electronically via the internet in lieu of paper. See 18 CFR 385.2001(a)(1)(iii) and the instructions on the Commission's Web site under http://www.ferc.gov the “e-Filing” link. The Commission strongly encourages e-filings.

k. Description of Request: The licensee proposes to grant a lease for a Commercial Residential Marina to Lake James Properties, LLC for the Arbor on Lake James Subdivision. The proposal includes two parcels of project land containing a total of 1.918 acres for a proposed commercial residential marina facilities. Nine cluster boat-docks having 110 boat slips would provide access to the reservoir by residents of The Arbor on Lake James Subdivision, located in McDowell County, North Carolina.

l. Location of the Application: The filing is available for review at the Commission in the Public Reference Room, located at 888 First Street, NE., Room 2A, Washington, DC 20426, or may be viewed on the Commission's Web site at http://www.ferc.gov using the “FERRIS” link. Enter the docket number excluding the last three digits in the docket number field to access the document. For assistance, please call the Helpline at (866) 208-3676 or contact FERCONLINESUPPORT@ferc.gov. For TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 03-14751 Filed 6-10-03; 8:45 am]

BILLING CODE 6717-01-P